NUCLEAR REGULATORY COMMISSION

[Docket No. 63-001-HLW; ASLBP No. 09-892-HLW-CAB04]

United States Department of Energy (Yucca Mountain Nevada High-Level Waste Geologic Repository); Notice of Atomic Safety and Licensing Board Reconstitution

Pursuant to 10 CFR 2.313(c) and 2.321(b), the Atomic Safety and Licensing Board in the above-captioned ASLBP No. 09-892-HLW-CAB04 proceeding is hereby reconstituted by designating Administrative Judge G. Paul Bollwerk, III to serve as Presiding Officer in place of Administrative Judge Paul S. Ryerson, who retired from Federal service on November 30, 2024.¹

¹ Judge Ryerson was appointed as an Administrative Judge on the Atomic Safety and Licensing Board Panel in 2008. Since 2012, he has served as the Panel's Associate Chief Administrative Judge. In all his adjudicatory and leadership roles, Judge Ryerson served with surpassing distinction.

All correspondence, documents, and other materials shall continue to be filed in accordance with the NRC E-filing rule. See 10 CFR 2.302.

Rockville, Maryland

Dated: December 3, 2024.
Edward R. Hawkens,
Chief Administrative Judge, Atomic Safety and Licensing Board Panel.

[FR Doc. 2024-28773 Filed 12-6-24; 8:45 am]

BILLING CODE 7590-01-P